DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from March 30 to April 3, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: May 12, 2009.
J. Paul Loether,
Chief, National Register of Historic Places/National Historic Landmarks Program.

Key: State, County, Property Name, Address/Boundary, City, Vicinity, Reference Number, Action, Date, Multiple Name.

ARKANSAS

Johnson County

Clarksville Commercial Historic District, Roughly bounded by McConnell St. on the S.; Cherry St. on the N.; Johnson St. on the W.; Spadra Creek on the E., Clarksville, 08000816, Listed, 3/30/09.

FLORIDA

Sarasota County

Armistead, William Martin, House, 1510 Hyde Park St., Sarasota, 09000165, Listed, 3/30/09.

GEORGIA

Chatham County

Fairway Oaks-Greenview Historic District, Bounded approx. by DeRenne Dr., Waters Ave., Truman Pkwy., and Casey Canal, and the Live Oaks Golf Course, Savannah, 09000184, Listed, 3/31/09.

Fulton County

Winecoff Hotel, 179 Peachtree St., NW., Atlanta, 09000185, Listed, 3/31/09.

Screven County

Harris-Murrow-Trowell House, 473 Old Louisville Rd., Oliver, 09000187, Listed, 3/30/09.

ILLINOIS

Cook County

Ramsey, Charles N., and Herry E. Weese House, 141 Kenilworth Ave., Kenilworth, 09000167, Listed, 4/01/09.

MISSISSIPPI

Attala County

Kosciusko Historic District, Roughly bounded by the Illinois, N. Wells, S. Natchez, Galloway, Bobo, S. Huntington, Jefferson St., Highland Dr., Kosciusko, 08001084, Listed, 3/31/09.

OHIO

Belmont County

Rock Hill Presbyterian Church, 56244 High Ridge Rd., Bellaire vicinity, 09000169, Listed, 4/01/09.

Hamilton County

Cheviot Fieldhouse, 3729 Robb Ave., Cheviot, 09000170, Listed, 4/01/09.

Knox County

Loveridge, Richard and Ann, House, 12526 Lower Green Valley Rd., Mount Vernon vicinity, 09000171, Listed, 4/01/09.

Stark County

Town Pump of East Sparta, The, Jct. of Walnut St. and Main Ave., East Sparta, 09000172, Listed, 4/01/09.

RHODE ISLAND

Providence County

Manville Company Worker Housing Historic District, Bounded by Chestnut St., Angle St., Railroad St., Winter St., Fall St., Spring St., Park Way, Almeida Dr., Main St., Lincoln, 08001183, Listed, 4/02/09.

VERMONT

Windham County

Homestead-Horton Neighborhood Historic District, Homestead Place, Horton Place, Canal St., Brattleboro, 09000160, Listed, 4/03/09.

[FR Doc. E9-11557 Filed 5-18-09; 8:45 am]

BILLING CODE P